DEPARTMENT OF COMMERCE

National Oceanic and Atmospheric Administration

New England Fishery Management Council (NEFMC); Public Meeting

AGENCY: National Marine Fisheries Service (NMFS), National Oceanic and Atmospheric Administration (NOAA), Commerce.

ACTION: Notice; public meeting.

SUMMARY: The New England Fishery Management Council (Council) is scheduling a joint public meeting of its Groundfish and Scallop Committees on June 18, 2012 to consider actions affecting New England fisheries in the exclusive economic zone (EEZ). Recommendations from this group will be brought to the full Council for formal consideration and action, if appropriate.

DATES: This meeting will be held on Monday, June 18, 2012 at 12:30 p.m.

ADDRESSES: The meeting will be held at the Holiday Inn by the Bay, 88 Spring Street, Portland, ME 04101; telephone: (207) 775-2311; fax: (207) 761-8224.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The NEFMC's Groundfish and Scallop Oversight Committees will hold a joint meeting. The Committees will discuss the low fishing year 2012 annual catch limit (ACL) for Georges Bank yellowtail flounder and will develop recommendations for the Council on how to mitigate the impacts of this restrictive catch. The Committees may discuss regulatory measures such as gear requirements, possession limits or other restrictions on fishing activity, as well as possible adjustments to sub-ACLs of Georges Bank yellowtail flounder. They may also discuss modifications to the way groundfish and scallop accountability measures are implemented. Committee discussions will not be limited solely to actions that the Council may take. They may also develop recommendations for actions by the National Marine Fisheries Service, science—industry partners or suggestions for the Transboundary Management Guidance Committee. Any recommendations will be forwarded to the Council at a future date. Other business may be discussed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for

sign language interpretation or other auxiliary aids should be directed to Paul J. Howard, Executive Director, at (978) 465-0492, at least 5 days prior to the meeting date.

Authority: 16 U.S.C. 1801 et seq.

Dated: May 29, 2012.
Tracey L. Thompson,
Acting Director, Office of Sustainable Fisheries, National Marine Fisheries Service.

[FR Doc. 2012-13273 Filed 5-31-12; 8:45 am]

BILLING CODE 3510-22-P